OVERSEAS PRIVATE INVESTMENT CORPORATION

October 15, 2003 Board of Directors Meeting

Time and Date: 4 p.m., Wednesday, October 15, 2003 (Closed to Public).

Place: Offices of the Corporation, Twelfth Floor Board Room, 1100 New York Avenue, NW., Washington, DC

Status: Closed portion will commence at 4 p.m. (approx.).

Matters to be Considered: (Closed to the Public).

1. Discussion of OPIC Product.

2. Insurance Project in Croatia.

FOR FURTHER INFORMATION CONTACT: Information on the meeting may be obtained from Connie M. Downs at (202) 336-8438.

Dated: October 2, 2003.
Connie M. Downs,
Corporate Secretary, Overseas Private Investment Corporation.

[FR Doc. 03-25361 Filed 10-2-03; 11:56 am]

BILLING CODE 3210-01-M